DEPARTMENT OF HEALTH AND HUMAN SERVICES

Substance Abuse and Mental Health Services Administration

Notice of Meetings

Pursuant to Public Law 92-463, notice is hereby given of the combined meeting of the Substance Abuse and Mental Health Services Administration's (SAMHSA) four National Advisory Councils (the SAMHSA National Advisory Council (NAC), the Center for Mental Health Services NAC, the Center for Substance Abuse Prevention NAC, and the Center for Substance Abuse Treatment NAC), SAMHSA's Advisory Committee for Women's Services, and SAMHSA's Tribal Technical Advisory Committee on August 16, 2011.

The Councils were established to advise the Secretary, Department of Health and Human Services (HHS), the Administrator, SAMHSA, and Center Directors, concerning matters relating to the activities carried out by and through the Centers and the policies respecting such activities.

Under Section 501 of the Public Health Service Act, the Advisory Committee for Women's Services (ACWS) is statutorily mandated to advise the SAMHSA Administrator and the Associate Administrator for Women's Services on appropriate activities to be undertaken by SAMHSA and its Centers with respect to women's substance abuse and mental health services.

Pursuant to Presidential Executive Order No. 13175, November 6, 2000, and the Presidential Memorandum of September 23, 2004, SAMHSA established the Tribal Technical Advisory Committee for working with Federally-recognized Tribes to enhance the government-to-government relationship, honor Federal trust responsibilities and obligations to Tribes and American Indian and Alaska Natives. The SAMHSA TTAC serves as an advisory body to SAMHSA.

The meeting will include a report from the SAMHSA Administrator and discussions related to SAMHSA's FY 2012 Budget, substance abuse and mental health issues among women and girls, principles of recovery, workforce development, and an update on SAMHA's National Quality Framework and Agenda.

The meeting is open to the public. However, attendance is limited to space availability. Public comments are welcome. The meeting may be accessed via Webcast. To attend on site, obtain the call-in number and access code, submit written or brief oral comments, or request special accommodations for persons with disabilities, please register on-line at http://nac.samhsa.gov/Registration/meetingsRegistration.aspx, or communicate with SAMHSA's Committee Management Officer, Ms. Cynthia Graham (see contact information below).

Substantive program information may be obtained after the meeting by accessing the SAMHSA Committee Web site, http://nac.samhsa.gov/, or by contacting Ms. Graham.

Committees Names: Substance Abuse and Mental Health Services Administration, National Advisory Council, Center for Mental Health Services National Advisory Council, Center for Substance Abuse Prevention National Advisory Council, Center for Substance Abuse Treatment National Advisory Council, SAMHSA's Advisory Committee for Women's Services, SAMHSA Tribal Technical Advisory Committee.

Date/Time/Type: August 16, 2011, 8:30 a.m.-5:30 p.m. (Open).

Place: SAMHSA, 1 Choke Cherry Road, SAMHSA 1s Floor Conference Rooms, Rockville, Maryland 20857.

Contact: Cynthia Graham, M.S., Committee Management Officer and Designated Federal Official, SAMHSA National Advisory Council, SAMHSA Advisory Committee for Women's Services, 1 Choke Cherry Road, Rockville, Maryland 20857, Telephone: (240) 276-1692, Fax: (240) 276-1690 and E-mail: cynthia.graham@samhsa.hhs.gov.

The Substance Abuse and Mental Health Services Administration National Advisory Council will meet on August 17. The meeting will include the Administrator's report; recap of the August 16 Joint Committees meeting; discussions on SAMHSA's budget and data and quality issues; panel discussions on women and girl's issues, workforce development, the National Dialogue, and suicide prevention.

The meeting is open to the public. However, attendance is limited to space availability. Public comments are welcome. To attend on-site, submit written or brief oral comments, or request special accommodations for persons with disabilities, please register at the SAMHSA Committees' Web site, http://nac.samhsa.gov/Registration/meetingsRegistration.aspx, or communicate with the SAMHSA Council's Designated Federal Official, Ms. Cynthia Graham (see contact information below).

Committee Name: Substance Abuse and Mental Health Services Administration, National Advisory Council.

Date/Time/Type: August 17, 2011, 8:30 a.m.-3 p.m. (Open).

Place: SAMHSA, 1 Choke Cherry Road, Sugarloaf Conference Room, Rockville, Maryland 20857.

Contact: Cynthia Graham, M.S., Committee Management Officer and Designated Federal Official, SAMHSA National Advisory Council, 1 Choke Cherry Road, Rockville, Maryland 20857, Telephone: (240) 276-1692, Fax: (240) 276-1690, E-mail: cynthia.graham@samhsa.hhs.gov.

The Center for Mental Health Services Advisory Council will meet on August 17. The meeting will include the review, discussion and evaluation of grant applications reviewed by Initial Review Groups (IRGs). Therefore, a portion of the meeting will be closed to the public as determined by the SAMHSA Administrator, in accordance with Title 5 U.S.C. 552b(c)(6) and 5 U.S.C. App. 2, 10(d).

A portion of the meeting is open to the public and will include the Director's Report, updates of administrative and programmatic activities, and a report from the Consumer Subcommittee.

The meeting is not available via Webcast. Attendance is limited to space availability. Public comments are welcome. To attend on-site, submit written or brief oral comments, or request special accommodations for persons with disabilities, please register at the SAMHSA Committees' Web site, http://nac.samhsa.gov/Registration/meetingsRegistration.aspx or communicate with the CMHS Council's Designated Federal Official, Ms. Diane Abbate (see contact information below).

Committee Name: Center for Mental Health Services National Advisory Council.;

Date/Time/Type: August 17, 2011, 8:30 a.m.-10:30 a.m. (Closed). August 17, 2011, 10:30 a.m.-12:30 p.m. (Open).

Place: SAMHSA, 1 Choke Cherry Road, Seneca Conference Room, Rockville, Maryland 20857.

Contact: Diane Abbate, Designated Federal Official, CMHS National Advisory Council, 1 Choke Cherry Road, Rockville, Maryland 20857, Telephone: (240) 276-1824, Fax: (240) 276-1320 and E-mail: diane.abbate@samhsa.hhs.gov.

The Center for Substance Abuse Prevention National Advisory Council will meet on August 17. A portion of the meeting is open to the public and will include discussions on the Ambassador's Kit, the Prevention White Paper, the budget, and the Strategic Initiative for Prevention of Substance Abuse and Mental Illness. Attendance is limited to space availability. Public comments are welcome. To attend on-site, submit written or brief oral comments, or request special accommodations for persons with disabilities, please register at the SAMHSA Committees' Web site, http://nac.samhsa.gov/Registration/meetingsRegistration.aspx, or communicate with the CSAP Council's Designated Federal Official, LTJG Michael Muni (see contact information below).

The meeting will also include the review, discussion and evaluation of grant applications reviewed by Initial Review Groups (IRGs). Therefore, a portion of the meeting will be closed to the public as determined by the SAMHSA Administrator, in accordance with Title 5 U.S.C. 552b(c)(6) and 5 U.S.C. App. 2, 10(d).

Committee Name: Center for Substance Abuse Prevention National Advisory Council.

Date/Time/Type: August 17, 2011, 9 a.m.-3 p.m. (Open). 3 p.m.-5 p.m. (Closed).

Place: Hilton Washington DC North/Gaithersburg, 620 Perry Parkway, Montgomery Conference Room, Gaithersburg, Maryland 20877.

Contact: Michael Muni, Designated Federal Official, CSAP National Advisory Council, 1 Choke Cherry Road, Room 4-1074, Rockville, Maryland 20857, Telephone: (240) 276-2559, Fax: (240) 276-2430, E-mail: Michael.muni@samhsa.hhs.gov.

The Center for Substance Abuse Treatment National Advisory Council will meet on August 17. The meeting will include the review, discussion and evaluation of grant applications reviewed by Initial Review Groups (IRGs). Therefore, a portion of the meeting will be closed to the public as determined by the SAMHSA Administrator, in accordance with Title 5 U.S.C. 552b(c)(6) and 5 U.S.C. App. 2, 10(d).

A portion of the meeting is open to the public and will include a discussion of the Center's current administrative, legislative, and program developments. However, attendance is limited to space availability. Public comments are welcome. To attend on-site, or request special accommodations for persons with disabilities, please register at SAMHSA Committees' Web site, http://nac.samhsa.gov/Registration/meetingsRegistration.aspx, or communicate with the Council's Designated Federal Officer, Ms. Cynthia Graham (see contact information below).

Committee Name: Substance Abuse and Mental Health Services Administration. Center for Substance Abuse Treatment National Advisory Council.

Date/Time/Type: August 17, 2011 8:30 a.m.-9:45 a.m. (Closed) . 10 a.m.-2 p.m. (Open).

Place: SAMHSA, 1 Choke Cherry Road, Rock Creek and Great Falls Conference Rooms, Rockville, Maryland 20857.

Contact: Cynthia Graham, M.S., Designated Federal Official, SAMHSA/CSAT National Advisory Council, 1 Choke Cherry Road, Room 5-1036, Rockville, MD 20857, Telephone: (240) 276-1692, Fax: (240) 276-1690, E-mail: cynthia.graham@samhsa.hhs.gov.

The Substance Abuse and Mental Health Services Administration's Advisory Committee for Women's Services Committee (ACWS) will meet on August 15. The meeting will include remarks from the Associate Administrator for Women's Services in relation to SAMHSA's budget and block grant applications; a presentation on SAMHSA's survey data on women and girls; a follow-up discussion of women and girls in SAMHSA's Strategic Initiatives; a presentation on critical issues for women and girls in recovery; and a discussion of gender-specificity across behavioral health.

Public attendance is limited to space availability. Public comments are welcome. To attend on site, submit written or brief oral comments, or to request special accommodations for persons with disabilities, please register at the SAMHSA Committees' Web site, http://nac.samhsa.gov/Registration/meetingsRegistration.aspx, or communicate with the ACWS Designated Federal Officer, Ms. Cynthia Graham (see contact information below).

Committee Name: SAMHSA's Advisory Committee for Women's Services.

Date/Time/Type: Monday, March 15, 2011, from 9 a.m.-5 p.m. (Open).

Place: 1 Choke Cherry Road, Sugarloaf Conference Room, Rockville, Maryland 20857.

Contact: Cynthia Graham, M.S., Designated Federal Official, SAMHSA Advisory Committee for Women's Services, 1 Choke Cherry Road, Room 5-1035, Rockville, Maryland 20857, Telephone: (240) 276-1692, Fax: (240) 276-1690, E-mail: cynthia.graham@samhsa.hhs.gov.

The Substance Abuse and Mental Health Services Administration (SAMHSA) Tribal Technical Advisory Committee will meet on August 15, 2011. The meeting will include an update from the SAMHSA Administrator, a presentation by the HHS Office of Intergovernmental Affairs, an update on the Tribal Law and Order Act, and an overview of the SAMHSA Office of Behavioral Health Equity.

The meeting is open to the public. However, attendance is limited to space availability. To attend on-site or request special accommodations for persons with disabilities, please register at the SAMHSA Committees' Web site, http://nac.samhsa.gov/Registration/meetingsRegistration.aspx, or communicate with the SAMHSA Senior Advisor for Tribal Affairs, Ms. Sheila Cooper (see contact information below).

Committee Name: Substance Abuse and Mental Health Services Administration's Tribal Technical Advisory Committee.

Date/Time/Type: August 15, 2011, 8:30 a.m.-5 p.m. (Open).

Place: SAMHSA Central Office Building, 1 Choke Cherry Road, Seneca Conference Room, Rockville, Maryland 20857.

Contact: Sheila Cooper, Senior Advisor for Tribal Affairs, SAMHSA Tribal Technical Advisory Committee, 1 Choke Cherry Road, Rockville, Maryland 20857, Telephone: (240) 276-2005, Fax: (240) 276-2010 and E-mail: sheila.cooper@samhsa.hhs.gov.

Janine Denis Cook,
Chemist, Division of Workplace Programs, Substance Abuse and Mental Health Services Administration.

[FR Doc. 2011-19492 Filed 8-1-11; 8:45 am]

BILLING CODE 4162-20-P